DEPARTMENT OF VETERANS AFFAIRS

Notice of Intent To Grant an Exclusive License

AGENCY: Department of Veterans Affairs, Office of Research and Development.

ACTION: Notice of intent.

SUMMARY: Notice is hereby given that the Department of Veterans Affairs, Office of Research and Development, intends to grant Preventative Nutrient Company, Inc., Northridge, CA USA, an exclusive license to practice the following patent applications: U.S. Patent 7,144,865 issued on December 5, 2006 entitled “Compositions and Methods for Treating Obesity”; U.S. Patent Application 5,834,032 issued on November 10, 1998 entitled “Compositions and Methods for Treating Diabetes”; and U.S. Provisional Patent Application 60/892,785 filed on March 2, 2007 entitled “Compositions and Methods for Treating Alzheimer's Disease.”

DATES: Comments must be received within fifteen (15) days from the date of this published Notice.

ADDRESSES: Send comments to: Amy E. Centanni, Director of Technology Transfer, Department of Veterans Affairs, Office of Research and Development, Attn: 12TT 810 Vermont Avenue, NW., Washington, DC 20420, Telephone: (202) 254-0199; Facsimile: (202) 254-0460; e-mail: Amy.centanni@va.gov.

Copies of the published patent applications may be obtained from the U.S. Patent and Trademark Office at http://www.uspto.gov.

SUPPLEMENTARY INFORMATION: It is in the public interest to so license these inventions as Preventative Nutrient Company, Inc., submitted a complete and sufficient application for a license. The prospective exclusive license will be royalty-bearing and will comply with the terms and conditions of 35 U.S.C. 209 and 37 CFR 404.7. The prospective exclusive license may be granted unless, within fifteen (15) days from the date of this published Notice, the Department of Veterans Affairs Office of Research and Development receives written evidence and argument which establishes that the grant of the license would not be consistent with the requirements of 35 U.S.C. 209 and 37 CFR 404.7.

Dated: August 1, 2007.
Gordon H. Mansfield,
Deputy Secretary of Veterans Affairs.

[FR Doc. E7-15386 Filed 8-7-07; 8:45 am]

BILLING CODE 8320-01-P